DEPARTMENT OF COMMERCE

National Oceanic and Atmospheric Administration

50 CFR Part 648

[Docket No. 050216041-5041-01; I.D. 020705C]

RIN 0648-AS87

Fisheries of the Northeastern United States; Recordkeeping and Reporting Requirements; Regulatory Amendment to Modify Seafood Dealer Reporting Requirements

AGENCY: National Marine Fisheries Service (NMFS), National Oceanic and Atmospheric Administration (NOAA), Commerce.

ACTION: Proposed rule; request for comments.

SUMMARY: NMFS proposes measures to modify the existing reporting and record keeping regulations for federally permitted seafood dealers participating in the summer flounder, scup, black sea bass, Atlantic sea scallop, Northeast (NE) multispecies, monkfish, Atlantic mackerel, squid, butterfish, Atlantic surfclam, ocean quahog, Atlantic herring, Atlantic deep-sea red crab, tilefish, Atlantic bluefish, skate, and/or spiny dogfish fisheries in the NE Region. The purpose of this action is to reduce the reporting burden on seafood dealers, improve data quality, simplify compliance, enhance enforceability, and clarify existing requirements.

DATES: Comments on this proposed rule must be received on or before March 21, 2005.

ADDRESSES: Copies of the regulatory amendment, its Regulatory Impact Review (RIR), the Initial Regulatory Flexibility Analysis (IRFA), and other supporting materials are available from Patricia A. Kurkul, Regional Administrator, Northeast Region, NMFS, One Blackburn Drive, Gloucester MA 01930. The regulatory amendment/RIR/IRFA is also accessible via the Internet at http://www.nero.nmfs.gov. Comments on the rule or related analysis should be submitted as follows:

• E-mail comments to DealerER@noaa.gov. Mark the subject line “Comments on Dealer Reporting.”

• Send or deliver written comments (paper, CD Rom, or disk) to Patricia A. Kurkul, Regional Administrator, Northeast Region, NMFS, One Blackburn Drive, Gloucester MA 01930. Mark the outside of the envelope, “Comments on Proposed Rule to Modify Dealer Reporting.”

• Send comments through the Federal e-Rulemaking Portal at www.Regulations.gov

• Fax comments via facsimile to (978) 281-9161

Written comments regarding the burden-hour estimates or other aspects of the collection-of-information requirements contained in this proposed rule may be submitted to Patricia A. Kurkul, Regional Administrator, and by e-mail to David_Rostker@omb.eop.gov, or by fax to (202) 395-7285.

FOR FURTHER INFORMATION CONTACT: Kelley McGrath, Fishery Information Specialist, (978) 281-9307, fax (978) 281-9161, or Erik Braun, Fishery Reporting Specialist, (631)-324-3569, fax (631)324-3314.

SUPPLEMENTARY INFORMATION:

Background

Regulations implementing the fishery management plans (FMPs) for the summer flounder, scup, black sea bass, Atlantic sea scallop, NE multispecies, monkfish, Atlantic mackerel, squid, butterfish, Atlantic surfclam, ocean quahog, Atlantic herring, Atlantic deep-sea red crab, tilefish, Atlantic bluefish, skate, and spiny dogfish fisheries are found at 50 CFR part 648. These FMPs were prepared under the authority of the Magnuson-Stevens Fishery Conservation and Management Act (Magnuson-Stevens Act). All dealers and vessels issued a Federal permit in one or more of the aforementioned fisheries must comply with the reporting requirements outlined at § 648.7. Lobster dealers issued a Federal lobster permit, but not issued any of the permits with mandatory reporting requirements under this part, are not required to comply with these reporting regulations, although other reporting requirements may apply.

Prior to March 1994, nearly all fisheries landing information was collected from seafood dealers and vessel owners on a voluntary basis. Vessel owners/operators were asked by NMFS Field Staff to respond voluntarily to interview questions regarding effort and location information for their fishing trip, which were used to augment the detailed purchase reports submitted by dealers. In 1994, mandatory reporting by seafood dealers and vessel owners/operators permitted in the summer flounder, Atlantic sea scallop and NE multispecies fisheries was implemented. As subsequent FMPs for additional fisheries were developed, including several managed, in part, by harvest limits, mandatory reporting by dealers and vessels became an integral part of those FMPs. Any dealer issued a permit for a species with mandatory reporting requirements was required to submit trip-level purchase reports on a weekly basis, either on paper or in an approved electronic format. If no purchases were made during a calendar month, a negative report so stating was required. Dealers were also required to submit weekly summary reports of certain quota-managed species through the telephone-based Interactive Voice Response (IVR) system. If no purchases of any quota-managed species were made during the reporting week, a negative report was required.

NMFS published a final rule (69 FR 13482, March 23, 2004) that was effective May 1, 2004. It implemented new reporting regulations requiring seafood dealers permitted in the summer flounder, scup, black sea bass, Atlantic sea scallop, NE multispecies, monkfish, Atlantic mackerel, squid, butterfish, Atlantic surfclam, ocean quahog, Atlantic herring, Atlantic deep-sea red crab, tilefish, Atlantic bluefish, skate, and/or spiny dogfish fisheries to submit electronically trip-level reports, of all fish purchased or received, regardless of species, area harvested, point of purchase, or point of landing. Electronic reports must be submitted to NMFS using one of four acceptable methods: data entry via a web-based form; file upload via a web site; file upload using an approved state management agency program; or file transfer protocol (FTP) via the phone line.

Reports are required to be submitted either on a weekly or a daily basis, depending on the dealer category. Each dealer is currently assigned to either the Small Dealer or Large Dealer category, based on past ex-vessel purchase value. Any dealer with less than $300,000 in total ex-vessel purchases in each year from 2000 through 2002 is considered a Small Dealer and must report trip-level purchase reports each week. Reports are due within 3 days of the end of the reporting week, by midnight Tuesday. Any dealer with at least $300,000 in ex-vessel purchases in 2000, 2001, or 2002 is considered a Large Dealer and must submit trip-level purchase reports by midnight of the following business day. Any dealer issued a new permit in 2003 or after is considered a Large Dealer and subject to the reporting requirements for large dealers. Effective May 1, 2005, all dealers are required to submit reports by midnight of the following business day, regardless of their category. If no fish are purchased or received during a day, no report is required to be submitted. If no fish are purchased or received during an entire reporting week, a report so stating must be submitted.

All dealers issued a dealer permit under 50 CFR part 648 must provide the following information on each report: Dealer name; dealer permit number; name and permit number or name and hull number (United States Coast Guard documentation number or state registration number, whichever is applicable) of vessel(s) from which fish are purchased or received; trip identifier for each trip from which fish are purchased or received from a commercial fishing vessel permitted under this part; date(s) of purchases and receipts; pounds by species (by market category, if applicable, or, if a surfclam or ocean quahog processor or dealer, the number of bushels by species); price per pound by species (by market category, if applicable, or, if a surfclam or ocean quahog processor or dealer, the price per bushel by species) or total value by species (by market category, if applicable); port landed; cage tag numbers (if a surfclam or ocean quahog processor or dealer); disposition of the seafood product; and any other information deemed necessary by the Regional Administrator. Certain information, such as price, disposition, and trip identifier may be submitted up to 16 days after the end of the reporting week, or by the end of the calendar month, whichever is later. Effective May 1, 2005, trip identifier will be due within the same time frame as the original report, i.e., by midnight of the following business day.

The implementation of mandatory electronic reporting for federally permitted dealers represented a marked change in the methods used by both industry and NMFS to conduct business and data management. Since the implementation of electronic reporting, NMFS has reviewed and evaluated the new reporting requirements, data quality, dealer compliance, and submission methods, seeking ways to minimize the reporting burden for dealers while maintaining effective fisheries management. NMFS staff continues to work with industry to identify and to resolve technical issues and get feedback on electronic reporting. As a result of its findings, NMFS proposes modifying several components of dealer reporting to reduce the burden on seafood dealers, improve data quality, simplify compliance, enhance enforceability, and clarify existing requirements. The three major areas of proposed changes are related to reporting frequency, out-of-region purchases, and inshore species reporting. In addition to dealer reporting changes, NMFS proposes to modify the requirements for operator permits required under this part, in order to accept operator permits issued by the Southeast (SE) Region under 50 CFR part 622 as compliant with the operator permit requirements in 50 CFR part 648.

Frequency of Reporting

The current regulations require dealers in the Large Dealer category, and all dealers as of May 1, 2005, to report daily, regardless of the landing levels for a given species. Throughout most of the year, NMFS monitors landings of species managed by quota or other harvest limit on a weekly basis. While weekly monitoring is sufficient for most species, most of the year, more frequent reporting is beneficial as landings of a species reach levels that would cause the applicable quota or other target exploitation rate specified in the FMP for that species to be achieved. However, NMFS acknowledges that at the present time, compliance with daily reporting requirements can be difficult for dealers to achieve, primarily due to the limited window of time in which reports may be submitted. It is also more cumbersome for NMFS to manage the data and monitor compliance when data are received, or supposed to be received, from all dealers on a year-round, daily basis. Therefore, to alleviate the burden on both the industry and the Government, NMFS proposes to require weekly reporting by all dealers.

Under the proposed regulations, dealers would be required to submit electronic trip level reports of all fish purchases and receipts to NMFS on a weekly basis. Consistent with the current regulations, weekly reports would be due within 3 days of the end of the reporting week, by midnight Tuesday. If no purchases or receipts are made during the entire reporting week, an electronic report so stating would be required.

Out-of-Region Dealers

The current reporting requirements are very inclusive, in that any dealer issued a permit under this part must report all fish purchases, regardless of dealer location, point of landing, or point of purchase, to NMFS NE Region. This means that dealers conducting business outside of the NE Region (Maine to North Carolina), must still report all fish purchases and receipts, including species not managed by the NE Region, or even by NMFS. Many of these dealers are required to report their purchases of certain species to another NMFS Region or state agency as well, resulting in duplicate reporting of some purchases. Reporting the same information twice is burdensome to dealers and more difficult for NMFS to manage. It may also lower the overall quality of fisheries landings data if not all of the duplicate reports can be identified and removed from the database. Therefore, NMFS proposes to require dealers making purchases from a vessel that landed fish outside of the NE Region to report only the species. Limiting the species that must be reported by dealers making out-of-region purchases would reduce the burden on those dealers and lessen duplicate reporting to Federal and state agencies. Requiring only those species managed by the NE Region to be reported for out-of-region trips still allows for effective monitoring of species for which the NE Region is responsible, while minimizing the reporting burden on dealers.

Inshore Species Reporting

Similar to the out-of-region purchases situation, under the current regulations dealers must report all purchases to NMFS, including shellfish and other invertebrate species caught in waters under the states' jurisdiction (inshore) that are not currently managed by NMFS and are not anticipated to be managed by NMFS in the future. In many cases these purchases are being reported to a state management agency as well, resulting in duplicate data and unnecessary burden on seafood dealers. Therefore, NMFS proposes to exclude several inshore species from dealer reporting requirements under this part. The exclusion would be accomplished by adding a definition for Inshore Exempted Species to the Definitions section of this part. Excluded species include bay scallops; blood arc, razor and soft clams; blood and sand worms; blue, green, hermit, Japanese shore, and spider crabs; blue mussels; and quahogs.

Atlantic Bluefin Tuna

To purchase Atlantic bluefin tuna, dealers must comply with Highly Migratory Species (HMS) requirements under 50 CFR part 635, including the requirement to submit purchase reports to the HMS division of NMFS. If a dealer is also issued a permit under 50 CFR part 648, that dealer is required to report Atlantic bluefin tuna purchases to NMFS twice. This results in an increased burden for dealers as they are reporting the same purchase under two different agency requirements. Therefore, NMFS proposes eliminating the requirement for dealers to report purchases or Atlantic bluefin tuna under 50 CFR part 648. Other HMS reporting requirements would still apply.

File Transfer Protocol (FTP) Option

One of the four acceptable options for submitting electronic reports is via a phone-line FTP. The intent of providing this option was to allow dealers without Internet access to submit files using a phone line rather than via a web site. According to current NOAA policy outlined in the DOC's “Unclassified System Remote Access Security Policy and Minimum Implementation Standards” document, FTP sites are no longer an acceptable system of file transfer due to security concerns. Therefore to comply with NOAA policy, NMFS proposes removing the option to submit data via FTP.

Units of Measure

The current regulations provide that dealers must report purchases in pounds, except for surfclam and ocean quahog processors and dealers, who must provide the bushels purchased. This phrasing implies that surfclam and ocean quahog dealers must report all purchases in bushels, however the intention was for surfclams and ocean quahogs to be reported in bushels and other species to be reported in pounds. Further, certain species may be landed in units of measure other than pounds or bushels. For instance, scallops may be reported in gallons and ocean quahogs may be reported in bags. The online data entry system that many dealers use to submit data to NMFS contains additional units of measure as well. However, the current wording in the regulations restricts the types of units that may be reported to pounds and bushels. NMFS proposes modifying the current language to allow other units of measure to be reported by seafood dealers.

Cage Tag Numbers

The current regulations require that cage tag numbers must be reported for all purchases made by surfclam or ocean quahog dealers. However, only surfclam and ocean quahog trips harvested under an Individual Transferrable Quota (ITQ) actually require cage tags to be used. Purchases of surfclams and ocean quahogs from non-ITQ trips do not require tags, nor do other species purchased by surfclam and ocean quahog dealers. NMFS proposes modifying the current regulations to clarify that cage tags must be reported only for purchases from certain trips.

Price, Disposition and Trip Identifier

Under the current regulations, dealers may submit price, disposition, and trip identifier information up to 16 days after the end of the reporting week, or by the end of the calendar month, whichever is later. The purpose of the extended time frame is to allow for the lag between the time the fish was purchased and the time that information becomes available to the dealer. However, NMFS has determined that 16 days is a sufficient amount of time for dealers to compile and submit price and disposition information. Prior to the implementation of electronic reporting, price information was due within 16 days of the end of the reporting week. This schedule gave dealers the time they needed to collect the information and still enabled NMFS to provide economic data for analyses within a reasonable time frame. Therefore, as of May 1, 2005 NMFS proposes to allow dealers 16 days to report price and disposition information. As specified in the current regulations, effective May 1, 2005, trip identifier will be due within the same time frame as the initial report.

At-sea Receivers

The existing regulations for at-sea purchasers, receivers or processors state that “All persons, except persons on Atlantic herring carrier vessels, purchasing, receiving, or processing any Atlantic herring, summer flounder, Atlantic mackerel, squid, butterfish, scup, or black sea bass at sea for landing at any port of the United States must submit information identical to that required by paragraph (a)(1) of this section and provide those reports to the Regional Administrator or designee by the same mechanism and on the same frequency basis.” Requiring fish received, but not purchased, to be reported is likely to result in duplicate or triplicate reporting of fish transferred at sea. For example, if an at-sea purchaser reports their purchases, then transfers that same product to an at-sea receiver who also reports it, the result is duplicate data being reported. This requires more intensive data management and auditing procedures, and increases the likelihood of duplicate data in the database. This is especially important for species managed by quota or other harvest limit, in which duplicate data could result in an early closure of the fishery. NMFS proposes to remove the term “receiving,” which would reduce the likelihood of double reporting.

Computer Acquisition Requirement

The current regulations require dealers to obtain and utilize a personal computer to comply with the reporting requirements. This wording may imply that dealers must obtain their own computer in order to comply, thus excluding them from using a computer owned by others. This was not the intention of the regulation. Dealers may use any computer that meets the system requirements. In addition, NMFS has established kiosks in several field offices specifically for dealers to use to meet their reporting requirements. NMFS proposes to change this wording to indicate that dealers do not have to own the computer used for submitting reports to NMFS.

Annual Processed Products Report (APPR)

Current regulations require any dealer issued a Federal permit under this part to complete and submit all sections of the APPR. The APPR is a census used to collect employment and economic data for the processing segment of the seafood industry. Certain fisheries, such as surfclam, ocean quahog, and Atlantic mackerel, require processors to be issued a processor permit under this part. Most entities issued a processor permit are also issued a dealer permit, however, there may be some processors issued only a processor permit under this part. The current regulations specify that Federal dealers must submit the APPR, inadvertently excluding processors from that requirement. Therefore, NMFS proposes modifying the language to clarify that both dealers and processors must submit the APPR.

Operator Permits

The current regulations specify that an operator must have been issued an operator permit under 50 CFR part 697. To provide a reciprocal agreement with the SE Region, NMFS proposes to modify the current regulations to allow operator permits issued pursuant to part 622 of this chapter to satisfy permitting requirements under this part.

Classification

This proposed rule has been determined to be not significant for the purposes of Executive Order 12866.

NMFS prepared an IRFA, as required by section 603 of the Regulatory Flexibility Act (RFA), that describes the economic impacts this proposed rule would have, if adopted, on small entities. A description of the action, why it is being considered, and the legal basis for the action, are contained in the preamble to this proposed rule and in the SUMMARY. This rule does not duplicate, overlap, or conflict with any relevant Federal rules. All of the dealers (approximately 576) that would be impacted by this proposed rule making are considered to be small entities; therefore, there would be no disproportionate impacts between large and small entities.

This proposed rule would reduce the reporting burden on seafood dealers by reducing the frequency of reporting, eliminating certain species from the current reporting requirements, reducing the frequency of reporting, and minimizing duplicate reporting. Therefore, this rule would: Not result in a decrease in annual gross revenues; not increase production costs; not increase compliance costs; and not force any businesses to cease operations.

In addition to the proposed action, and a No Action alternative, NMFS considered additional options for each of the three major facets of this proposed rule: Reporting frequency, out-of-region purchases, and inshore species reporting. For reporting frequency NMFS considered two additional options. The first option redefined the dealer categories based on purchases of quota-managed species only, rather than total purchases as is currently the case. Under this option Small Dealers would continue to report weekly and Large Dealers would continue to report daily. The second option considered for reporting frequency required weekly reporting for all dealers, with an option for NMFS to implement daily reporting if landings of a species reached levels requiring daily reporting for effective quota monitoring. Both of these options would reduce the reporting frequency, and thus the cost of compliance, for most dealers. While the dealers still required to report daily under the first option would not see a cost savings, the cost would not increase for any dealers under that option. Under the second option, all dealers would see a cost benefit unless and until daily reporting was implemented, at which time the cost of compliance would temporarily increase for some dealers, to the same level as under the current regulations. The proposed alternative would be most beneficial to dealers in that it would reduce the cost of compliance for all dealers throughout the year.

For out-of-region dealer reporting NMFS considered two other options for determining what constitutes an out-of-region dealer or trip. In the first option, the primary business address of the dealer determined whether the dealer was out-of-region or not. In the second option, the determination was based on the point of purchase for the trip. In addition, NMFS considered two other options for relieving dealers of inshore species reporting requirements. One option considered employing dealer-by-dealer reporting exemptions for any non-federally-managed species, if requested by the state agency for that dealer. The second option allowed for a state agency to request that NMFS relieve all dealers in their state from reporting species to NMFS that are also reported to the state agency, regardless of the management agency. For both out-of-region purchases and inshore species reporting, the differences in cost savings among the two options and the preferred alternatives are negligible because it is likely that the number of dealers affected under each option is very similar. However, both the options and the preferred alternatives would result in a time and cost savings compared to the current regulations, due to the reduction in reporting requirements.

For all other proposed changes included in this proposed rule, only the No Action and proposed action alternatives were considered. Of these proposed changes, only the elimination of Atlantic bluefin tuna reporting under 50 CFR part 648, removing the option for a dealer to submit reports via FTP, and alleviating at-sea receivers from reporting requirements may have an economic effect on dealers. The elimination of Atlantic bluefin tuna reporting requirements for dealers issued a permit under 50 CFR part 648 would result in a slight time saving for dealers issued an Atlantic bluefin tuna permit since they would no longer have to report their Atlantic bluefin tuna purchases under two sets of regulations. Removing the option to submit reports via a phone line FTP would require all dealers to have Internet access which could, theoretically, result in a small cost increase to certain dealers. However, since no dealers are currently using the FTP option, no dealers would actually be affected by this change. Alleviating at-sea receivers from submitting purchase reports may save a very small number of entities from reporting under 50 CFR part 648.

The remaining proposed changes are primarily clarifications or administrative changes that would not result in any economic impacts on the affected entities. These proposed changes include allowing various units of measure to be reported; requiring the trip identifier and disposition to be reported within 16 days of the end of the reporting week; clarifying which trips require cage tag numbers to be reported; eliminating at-sea receivers from reporting requirements; clarifying that dealers do not have to purchase their own computer to comply with these reporting requirements; and, allowing operator permits issued by the Southeast Region to satisfy operator permit requirements under 50 CFR part 648. Detailed descriptions of each of the proposed changes are provided in the associated RIR/IRFA document.

Collection-of-Information Requirements

This proposed rule contains a collection-of-information requirement, which has been submitted to OMB for approval. The public's reporting burden for the collection-of-information requirements includes the time for reviewing instructions, searching existing data sources, gathering and maintaining the data needed, and completing and reviewing the collection-of-information requirements.

The revised reporting requirements and the estimated time for a response are as follows: 4 minutes for a dealer purchase report.

Public comment is sought regarding: Whether the proposed collection of information is necessary for the proper performance of the functions of the agency, including whether the information shall have practical utility; the accuracy of the burden estimate; ways to enhance the quality, utility, and clarity of the information to be collected; and ways to minimize the burden of the collection of information, including through the use of automated collection techniques or other forms of information technology. Send comments on these or any other aspects of the collection of information to NMFS and to OMB (see ADDRESSES).

Notwithstanding any other provision of law, no person is required to respond to nor shall any person be subject to a penalty for failure to comply with a collection of information subject to the requirements of the PRA unless that collection-of-information displays a currently valid OMB control number.

This proposed rule follows the final rule implementing electronic reporting requirements for seafood dealers, effective May 1, 2004 (69 FR 13482, March 23, 2004) and addresses several of the concerns raised by industry to NMFS since then. NMFS anticipates that this proposed rule would result in only a benefit to industry by reducing the reporting burden, minimizing duplicate reporting, and simplifying compliance. Therefore, because this proposed rule is not expected to result in any negative impacts on the business entities that will be affected, and its earliest implementation is in the best interest of these entities, the comment period is specified to be 15 days.

List of Subjects in 50 CFR Part 648

Fisheries, Fishing, Reporting and recordkeeping requirements.

Dated: February 25, 2005.
William T. Hogarth,
Assistant Administrator for Fisheries, Natioinal Marine Fisheries Service.

For the reasons set out in the preamble, 50 CFR part 648 is proposed to be amended as follows:

PART 648—FISHERIES OF THE NORTHEASTERN UNITED STATES

1. The authority citation for part 648 continues to read as follows:

Authority: 16 U.S.C. 1801 et seq.

2. Section 648.2 is amended by adding, in alphabetical order, a new definition for “Inshore Exempted Species”; and removing the definitions for “Dealer-large” and “Dealer-small” to read as follows:

§ 648.2 Definitions.

* * * * *

Inshore Exempted Species means the following species:

Bay scallop - Aequipecten irradians.

Blood arc clam - Anadara ovalis.

Blood worm - Glycera dibranchiata.

Blue crab - Callinectes similis and Callinectes sapidus.

Blue mussel - Mytilus edulis.

Green crab - Carcinus maenas.

Hermit crab - Clibanarius vittatus, Pagurus pollicaris and Pagurus longicarpus.

Japanese shore crab - Hemigrapsus sanguineus.

Oyster - Crassostrea virginica and Ostrea edulis.

Quahog - Mercenaria mercenaria.

Razor clam - Ensis directus.

Sand worm - Neresis virens.

Soft clam - Mya arenaria.

Spider crab - Libinia emarginata.

* * * * *

3. In § 648.5, paragraph (a) is revised to read as follows:

§ 648.5 Operator permits.

(a) General. Any operator of a vessel fishing for or possessing Atlantic sea scallops in excess of 40 lb (18.1 kg), NE multispecies, spiny dogfish, monkfish, Atlantic herring, Atlantic surfclam, ocean quahog, Atlantic mackerel, squid, butterfish, scup, black sea bass, or Atlantic bluefish, harvested in or from the EEZ; tilefish harvested in or from the EEZ portion of the Tilefish Management Unit; skates harvested in or from the EEZ portion of the Skate Management Unit; or Atlantic deep-sea red crab harvested in or from the EEZ portion of the Red Crab Management Unit, issued a permit, including carrier and processing permits, for these species under this part, must have been issued under this section, and carry on board, a valid operator permit. An operator's permit issued pursuant to 50 CFR part 697 or part 622 satisfies the permitting requirement of this section. This requirement does not apply to operators of recreational vessels.

* * * * *

4. In § 648.7, paragraph (f)(1)(ii) is removed and reserved; paragraphs (a)(1)(i), (a)(2), (a)(3) introductory text, (a)(3)(i), (f)(1)(i) introductory text, (f)(1)(iv), (f)(1)(v), and (f)(3) are revised, and paragraph (a)(1)(ii) is added to read as follows:

§ 648.7 Recordkeeping and reporting requirements.

(a) * * *

(1) * * *

(i) All dealers issued a dealer permit under this part must provide: Dealer name; dealer permit number; name and permit number or name and hull number (USCG documentation number or state registration number, whichever is applicable) of vessel(s) from which fish are purchased or received; trip identifier for each trip from which fish are purchased or received from a commercial fishing vessel permitted under this part; date(s) of purchases and receipts; units of measure and amount by species (by market category, if applicable); price per unit by species (by market category, if applicable) or total value by species (by market category, if applicable); port landed; cage tag numbers for surfclams and ocean quahogs, if applicable; disposition of the seafood product; and any other information deemed necessary by the Regional Administrator. If no fish are purchased or received during a reporting week, a report so stating must be submitted.

(ii) Exceptions. The following exceptions apply to reporting requirements for dealers permitted under this part:

(A) Inshore Exempted Species, as defined in § 648.2, are not required to be reported under this part.

(B) When purchasing fish from a vessel landing in a port located outside of the Northeast Region (Maine, New Hampshire, Massachusetts, Connecticut, Rhode Island, New York, New Jersey, Pennsylvania, Maryland, Delaware, Virginia and North Carolina), only purchases of species managed by the Northeast Region under this part, and lobster, managed under 50 CFR part 697, must be reported. Other reporting requirements may apply to those species not managed by the Northeast Region, which are not affected by this provision.

(C) Dealers issued a permit for Atlantic bluefin tuna under 50 CFR part 635 are not required to report their purchases of Atlantic bluefin tuna under this part. Other reporting requirements, as specified in 50 CFR 635.5, apply to Atlantic bluefin tuna purchases.

* * * * *

(2) System requirements. All persons required to submit reports under paragraph (a)(1) of this section are required to have the capability to transmit data via the Internet. To ensure compatibility with the reporting system and database, dealers are required to utilize a personal computer, in working condition, that meets the minimum specifications identified by NMFS. The affected public will be notified of the minimum specifications via a letter to all Federal dealer permit holders.

(3) Annual report. All persons issued a permit under this part are required to submit the following information on an annual basis, on forms supplied by the Regional Administrator:

(i) All dealers and processors issued a permit under this part must complete all sections of the Annual Processed Products Report for all species that were processed during the previous year. Reports must be submitted to the address supplied by the Regional Administrator.

* * * * *

(f) Submitting reports—(1) Dealer or processor reports. (i) Weekly detailed trip reports. Detailed trip reports required by paragraph (a)(1)(i) of this section must be received within 3 days after the end of the reporting week, by midnight of the following Tuesday. If no fish are purchased or received during a reporting week, the report so stating required under paragraph (a)(1)(i) of this section must be received within 3 days after the end of the reporting week, by midnight on the following Tuesday.

(ii) [Reserved]

* * * * *

(iv) Through April 30, 2005, to accommodate the potential lag in availability of some required data, the trip identifier, price and disposition information required under paragraph (a)(1) of this section may be submitted after the weekly dealer report, but must be received within 16 days of the end of the reporting week or the end of the calendar month, whichever is later. Dealers will be able to access and update previously submitted trip identifier, price, and disposition data.

(v) Effective May 1, 2005, the trip identifier required under paragraph (a)(1) must be submitted with the weekly dealer purchase report, as required under paragraphs (f)(1)(i) of this section. Price and disposition information may be submitted after the weekly dealer report, but must be received within 16 days of the end of the reporting week.

* * * * *

(3) At-sea purchasers and processors. The owner or operator of all vessels, except the owner or operator of an Atlantic herring carrier vessel, purchasing or processing any Atlantic herring, summer flounder, Atlantic mackerel, squid, butterfish, scup, or black sea bass at sea for landing at any port of the United States must submit information identical to that required by paragraph (a)(1) of this section and provide those reports to the Regional Administrator or designee by the same mechanism and on the same frequency basis.

* * * * *

[FR Doc. 05-4145 Filed 3-3-05; 8:45 am]

BILLING CODE 3510-22-S